DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; Revision of a currently approved collection; OMB No. 1660-0068; FEMA Form 516-1, Federal Hotel and Motel Fire Safety Declaration Form.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before March 30, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 500 C Street, SW., Washington, DC 20472, facsimile number (202) 646-3347, or e-mail address FEMA-Information-Collections@dhs.gov.

SUPPLEMENTARY INFORMATION:

Collection of Information

Title: Federal Hotel and Motel Fire Safety Declaration Form.

Type of Information Collection: Revision of a currently approved collection.

OMB Number: 1660-0068.

Form Titles and Numbers: FEMA Form 516-1, Federal Hotel and Motel Fire Safety Declaration Form.

Abstract: FEMA will be collecting information from hotels and motels regarding the existence of smoke detectors and sprinkler systems in their buildings. FEMA is required to maintain a list of establishments that provide transient lodging with certification in place that they meet the requirements of the Hotel and Motel Fire Safety Act of 1990. This information is used to provide interested parties with a list of compliant hotels and motels, and it certifies that the business can be utilized by Federal government employees for work-related lodging.

Affected Public: Business or other For-Profit, State, local or Tribal Government.

Estimated Number of Respondents: 2,027. The number of respondents has been increased since publication of the 60-day Federal Register Notice (see 73 FR 72496, November 28, 2008).

Frequency of Response: Once.

Estimated Average Hour Burden per Respondent: .24 minutes (.39 hours).

Estimated Total Annual Burden Hours: 797 hours. The number of Annual Burden Hours has been increased since publication of the 60-day Federal Register Notice (see 73 FR 72496, November 28, 2008).

Estimated Cost: The estimated annualized cost to respondents based on wage rate categories is $19,706.48. The estimated annualized costs to respondents based on wage rate categories has been increased since publication of the 60-day Federal Register Notice (see 73 FR 72496, November 28, 2008). The estimated annual cost to the Federal Government is $57,000.

Larry Gray,
Director, Records Management Division, Office of Management, Federal Emergency Management Agency, Department of Homeland Security.

[FR Doc. E9-4215 Filed 2-26-09; 8:45 am]

BILLING CODE 9110-17-P